DEPARTMENT OF HEALTH AND HUMAN SERVICES

Health Resources and Services Administration

Agency Information Collection Activities: Proposed Collection: Public Comment Request; Information Collection Request Title: Health Workforce Connector

AGENCY: Health Resources and Services Administration (HRSA), Department of Health and Human Services.

ACTION: Notice.

SUMMARY: In compliance with the requirement for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than July 31, 2023.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at 301-443-3983.

SUPPLEMENTARY INFORMATION: When submitting comments or requesting information, please include the ICR title for reference.

Information Collection Request Title: Health Workforce Connector OMB No. 0906-0031—Revision.

Abstract: The Health Workforce Connector's (HWC) goal is to help connect skilled professionals to communities in need by allowing approved Site Points of Contact (POCs) at National Health Service Corps (NHSC), Nurse Corps Scholarship and Loan Repayment Programs (Nurse Corps), Substance Use Disorder Treatment and Recovery (STAR) Loan Repayment Program, Pediatric Specialty Loan Repayment Program (PS), Nursing Training, and Teaching Health Center Graduate Medical Education (THCGME) sites to post available opportunities and update site profiles. The HWC provides a central platform to connect participants, including but not limited to those in the NHSC, Nurse Corps, STAR, PS, Nursing Training, and THCGME programs with facilities that are approved for performance of their service obligation. The HWC has become a resource that connects any health care professional or student interested in providing primary care services in underserved communities with facilities in need of health care providers. The HWC also allows users to create a profile, search for approved sites, find job and training opportunities, and connect with other clinicians who are similarly interested in working with underserved populations. The HWC is searchable by Site POCs. Individuals can use the HWC's search capability with Google Maps.

The burden estimates below have changed from the estimates of burden provided in the previous notice (60-day notice published on August 12, 2020, vol. 85, No. 156, pp. 48708-09). The estimated burden total is significantly lower in this revised notice because it is based on the estimated total number of new users who will create accounts and publish profiles and does not include many existing program participants and site POCs who already have existing accounts.

Need and Proposed Use of the Information: Information will be collected from users in the following two ways:

(1) Account Creation: For job seekers, creating an account is optional. To create an account the user must enter their first name, last name, and email address. Those mandatory fields will be used to send an automated email allowing the user to validate their login credentials. In addition, for job seekers participating in the programs listed above, their HWC account will be linked to their existing program file in the Bureau of Health Workforce Management Information Systems Solution database and allow an initial import of existing data at the request of the user.

(2) Profile Completion: Users may fill out a profile, but this function will be optional and includes fields such as location, discipline, specialty, and languages spoken. The information collected, if published by the user, can be searched by approved Site POCs seeking potential candidates for health care job opportunities at their site. Job seekers also can set their security and privacy settings on their accounts to make their profiles searchable by other end users or private at any time. In addition, all information collected through the HWC will be stored within existing secure the Bureau of Health Workforce Management Information Systems Solution databases and will be used internally for report generation on an as-needed basis.

Likely Respondents: Potential users include individuals searching for a health care job opportunity at a NHSC, Nurse Corps, STAR, PS, Nursing Training, or THCGME approved health care facility and health care facility POCs searching for potential candidates to fill open health care job opportunities at their sites.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR is summarized in the table below.

Total Estimated Annualized Burden Hours
Form name | Number of respondents | Number of responses per respondent | Total responses | Average burden per response (in hours) | Total burden hours
Account Creation | 5,008 | 1 | 5,008 | .08 | 400.64
Complete Profile | 4,164 | 1 | 4,164 | 1.00 | 4,164
Total | ¹ 5,008 |  | 5,008 |  | 4,564.64
¹ The 4,164 respondents who complete their profiles are a subset of the 5,008 respondents who create accounts.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2023-11418 Filed 5-26-23; 8:45 am]

BILLING CODE 4165-15-P